DEPARTMENT OF THE INTERIOR

Bureau of Ocean Energy Management, Regulation and Enforcement

Environmental Document Prepared in Support of Oil and Gas Activities on the Alaska Outer Continental Shelf

AGENCY: Bureau of Ocean Energy Management, Regulation and Enforcement (BOEMRE), Interior.

ACTION: Notice of availability of a recent Environmental Assessment and Finding of No Significant Impact prepared by the Bureau of Ocean Energy Management, Regulation and Enforcement.

SUMMARY: Pursuant to Section 102(2)(C) of the National Environmental Policy Act (NEPA), the Council on Environmental Quality regulations (40 CFR parts 1500-1508), and the Department of the Interior regulations on NEPA (43 CFR part 46), BOEMRE announces the availability of an Environmental Assessment (EA) and a Finding of No Significant Impact (FONSI) prepared by BOEMRE for oil and gas activities proposed on the Alaska Outer Continental Shelf (OCS).

FOR FURTHER INFORMATION CONTACT: Jeffrey Loman, Deputy Regional Director, BOEMRE, Alaska OCS Region, 3801 Centerpoint Drive, Suite 500, Anchorage, Alaska 99503-5823; telephone 1-800-764-2627; e-mail AKwebmaster@boemre.gov.

EA Availability: To obtain a copy of an EA and/or FONSI, you may contact BOEMRE or visit the BOEMRE Web site at http://alaska.boemre.gov/.

SUPPLEMENTARY INFORMATION: Notice is submitted to comply with BOEMRE procedure for EA/FONSI which states: “Each OCS regional office shall prepare a quarterly Notice to be published in the Federal Register (FR) which lists all EAs and FONSIs prepared for OCS permitting activities in the Region during the 3-month period preceding the date that the Notice is submitted for publication (40 CFR 1506.6(b)). If no EAs and FONSIs were prepared for a 3-month period, no FR Notice is required.”

BOEMRE prepares EAs that examine the potential environmental effects of proposals for activities to evaluate oil and gas resource potential on the Alaska OCS. Each EA examines the potential environmental effects of activities described in the proposals and presents BOEMRE conclusions regarding the level and significance of those effects. EAs are used as the basis for determining whether or not approvals of the proposals would significantly affect the quality of the human environment in the sense of NEPA Section 102(2)(C). A FONSI is prepared in those instances where BOEMRE finds that approval of the proposals will not result in significant effects on the quality of the human environment. This notice constitutes the notice of availability to the public of the following environmental documents:

Project name | Location | Project purpose | FONSI
ION Geophysical, Inc., Beaufort and Chukchi Seas Seismic Survey, OCS EIS/EA MMS 2010-027 | Beaufort Sea and Chukchi Sea, Alaska | Conduct 2D Seismic Survey | 9/9/2010

BOEMRE has concluded that the proposed action would not significantly affect the quality of the human environment and that the preparation of an EIS was not required. Mitigation measures identified during the NEPA process would have been applied to the proposal to ensure environmental protection and safety if the action had occurred. The 2D seismic survey in the Beaufort Sea and Chukchi Sea did not occur because the survey vessel was unavailable due to unanticipated maintenance.

Dated: February 27, 2011.
L. Renee Orr,
Acting Associate Director for Offshore Energy and Minerals Management.

[FR Doc. 2011-4757 Filed 3-2-11; 8:45 am]

BILLING CODE 4310-MR-P